DEPARTMENT OF AGRICULTURE

Forest Service

Notice of Proposed New Fee Site Federal Lands Recreation Enhancement Act, (Title VIII, Pub. L. 108-447)

AGENCY: Humboldt-Toiyabe National Forest, Forest Service, USDA.

ACTION: Notice of Proposed New Fee Site.

SUMMARY: The Humboldt-Toiyabe National Forest is proposing to charge fees at the Spring Mountains Visitor Gateway Complex new group picnic sites. These group picnic sites include a $70 fee per site, year around. During the summer months the sites can be reserved for $70 for a half day or $120 for all day. Fees are assessed based on the level of amenities and services provided, cost of operations and maintenance, and market assessment. The fee is proposed and will be determined upon further analysis and public comment. Funds from fees would be used for the continued operation, maintenance, and improvements of these picnic sites.

An analysis of the nearby federal and state group picnic sites with similar amenities shows that the proposed fees are reasonable and typical of similar sites in the area.

DATES: Comments will be accepted through September 1, 2014. New fees would begin spring of 2015.

ADDRESSES: Bill Dunkelberger, Forest Supervisor, Humboldt-Toiyabe National Forest, 1200 Franklin Way, Sparks, NV 89431.

FOR FURTHER INFORMATION CONTACT: Del Orme, Recreation Staff Officer, 702-515-5401. Information about proposed fee changes can also be found on the Humboldt-Toiyabe National Forest Web site: http://www.fs.usda.gov/htnf/.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation. People wanting reserve these cabins would need to do so through the National Recreation Reservation Service, at www.recreation.gov or by calling 1-877-444-6777 when it becomes available.

Date: September 3, 2014.
William A. Dunkelberger,
Forest Supervisor.

[FR Doc. 2014-21370 Filed 9-10-14; 8:45 am]

BILLING CODE 3410-11-M